ENVIRONMENTAL PROTECTION AGENCY

40 CFR Part 55

[OAR-2004-0091; FRL-8000-1]

Outer Continental Shelf Air Regulations Consistency Update for California

AGENCY: Environmental Protection Agency (“EPA”).

ACTION: Proposed rule.

SUMMARY: EPA is proposing to update a portion of the Outer Continental Shelf (“OCS”) Air Regulations. Requirements applying to OCS sources located within 25 miles of States' seaward boundaries must be updated periodically to remain consistent with the requirements of the corresponding onshore area (“COA”), as mandated by section 328(a)(1) of the Clean Air Act, as amended in 1990 (“the Act”). The portion of the OCS air regulations that is being updated pertains to the requirements for OCS sources by the State of California and South Coast Air Quality Management District (South Coast AQMD). The intended effect of approving the OCS requirements for the State of California and South Coast AQMD is to regulate emissions from OCS sources in accordance with the requirements onshore. The change to the existing requirements discussed below is proposed to be incorporated by reference into the Code of Federal Regulations and is listed in the appendix to the OCS air regulations.

DATES: Comments on the proposed update must be received on or before January 3, 2006.

ADDRESSES: Submit comments, identified by docket number OAR-2004-0091, by one of the following methods:

1. Agency Web site: http://docket.epa.gov/edocket/. EPA prefers receiving comments through this electronic public docket and comment system. Follow the on-line instructions to submit comments.

2. Federal eRulemaking Portal: http://www.regulations.gov. Follow the on-line instructions.

3. E-mail: steckel.andrew@epa.gov.

4. Mail or deliver: Andrew Steckel (Air-4), U.S. Environmental Protection Agency Region IX, 75 Hawthorne Street, San Francisco, CA 94105-3901.

Instructions: All comments will be included in the public docket includes changes and may be made available online at http://docket.epa.gov/edocket/, including any personal information provided, unless the comment includes Confidential Business Information (CBI) or other information whose disclosure is restricted by statue. Information that you consider CBI or otherwise protected should be clearly identified as such and should not be submitted through the agency Web site, eRulemaking portal or e-mail. The agency Web site and eRulemaking portal are “anonymous access” systems, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://docket.epa.gov/edocket/ and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Cynthia Allen, Air Division (Air-4), U.S. EPA Region 9, 75 Hawthorne Street, San Francisco, CA 94105, (415) 947-4120, allen.cynthia@epa.gov.

SUPPLEMENTARY INFORMATION:

I. Background Information

A. Why Is EPA Taking This Action?

On September 4, 1992, EPA promulgated 40 CFR part 55,¹ which established requirements to control air pollution from OCS sources in order to attain and maintain federal and state ambient air quality standards and to comply with the provisions of part C of title I of the Act. Part 55 applies to all OCS sources offshore of the States except those located in the Gulf of Mexico west of 87.5 degrees longitude. Section 328 of the Act requires that for such sources located within 25 miles of a State's seaward boundary, the requirements shall be the same as would be applicable if the sources were located in the COA. Because the OCS requirements are based on onshore requirements, and onshore requirements may change, section 328(a)(1) requires that EPA update the OCS requirements as necessary to maintain consistency with onshore requirements.

¹ The reader may refer to the Notice of Proposed Rulemaking, December 5, 1991 (56 FR 63774), and the preamble to the final rule promulgated September 4, 1992 (57 FR 40792) for further background and information on the OCS regulations.

Pursuant to § 55.12 of the OCS rule, consistency reviews will occur (1) at least annually; (2) upon receipt of a Notice of Intent under § 55.4; or (3) when a state or local agency submits a rule to EPA to be considered for incorporation by reference in part 55. This proposed action is being taken in response to the submittal of requirements submitted by the State of California and South Coast AQMD. Public comments received in writing within 30 days of publication of this document will be considered by EPA before publishing a final rule.

Section 328(a) of the Act requires that EPA establish requirements to control air pollution from OCS sources located within 25 miles of States' seaward boundaries that are the same as onshore requirements. To comply with this statutory mandate, EPA must incorporate applicable onshore rules into part 55 as they exist onshore. This limits EPA's flexibility in deciding which requirements will be incorporated into part 55 and prevents EPA from making substantive changes to the requirements it incorporates. As a result, EPA may be incorporating rules into part 55 that do not conform to all of EPA's state implementation plan (SIP) guidance or certain requirements of the Act. Consistency updates may result in the inclusion of state or local rules or regulations into part 55, even though the same rules may ultimately be disapproved for inclusion as part of the SIP. Inclusion in the OCS rule does not imply that a rule meets the requirements of the Act for SIP approval, nor does it imply that the rule will be approved by EPA for inclusion in the SIP.

II. EPA's Evaluation

A. What Criteria Were Used To Evaluate Rules Submitted To Update 40 CFR Part 55?

In updating 40 CFR part 55, EPA reviewed the rules submitted for inclusion in part 55 to ensure that they are rationally related to the attainment or maintenance of federal or state ambient air quality standards or part C of title I of the Act, that they are not designed expressly to prevent exploration and development of the OCS and that they are applicable to OCS sources. 40 CFR 55.1. EPA has also evaluated the rules to ensure they are not arbitrary or capricious. 40 CFR 55.12(e). In addition, EPA has excluded administrative or procedural rules,² and requirements that regulate toxics which are not related to the attainment and maintenance of federal and state ambient air quality standards.

² Each COA which has been delegated the authority to implement and enforce part 55, will use its administrative and procedural rules as onshore. However, in those instances where EPA has not delegated authority to implement and enforce part 55, EPA will use its own administrative and procedural requirements to implement the substantive requirements. 40 CFR 55.14(c)(4).

B. What Requirements Were Submitted To Update 40 CFR Part 55?

1. After review of the requirements submitted by the State of California against the criteria set forth above and in 40 CFR part 55, EPA is proposing to make the following State of California requirements applicable to OCS sources:

Requirement # | Name | Adoption or amended date
17 § 93115 | Airborne Toxic Control Measure for Stationary Compression Ignition Engines | 2/26/04

2. After review of the requirements submitted by the South Coast AQMD against the criteria set forth above and in 40 CFR part 55, EPA is proposing to make the following District requirements applicable to OCS sources:

Rule # | Name | Adoption or amended date
102 | Definition of Terms | 12/3/04
201 | Permit to Construct | 12/3/04
201.1 | Permit Conditions in Federally Issued Permits to Construct | 12/3/04
202 | Temporary Permit to Operate | 12/3/04
203 | Permit to Operate | 12/3/04
219 | Equipment Not Requiring a Written Permit Pursuant to Regulation III | 12/3/04
301 | Permitting and Associated Fees (except (3) (7) and Table IV) | 6/3/05
304 | Equipment Materials, and Ambient Air Analyses | 6/3/05
304.1 | Analyses Fees | 6/3/05
306 | Plans Fees | 6/3/05
309 | Fees for Regulation XVI | 6/3/05
403 | Fugitive Dust | 6/3/05
463 | Organic Liquid Storage | 5/6/05
1110.1 | Emissions from Stationary Internal Combustion Engines | 6/3/05
1110.2 | Emissions from Gaseous- and Liquid-Fueled Engines | 6/3/05
1113 | Architectural Coatings | 7/9/04
1121 | Control Of Nitrogen Oxides from Residential Type,Natural Gas-Fired Water Heaters | 9/3/05
1122 | Solvent Degreasers | 10/1/04
1132 | Further Control of VOC Emissions from High Emitting Spray Booth Facilities | 5/7/04
1146.2 | Emissions of Oxides of Nitrogen from Large Water Heaters and Small Boilers | 1/7/05
1162 | Polyester Resin Operations | 7/9/04
1168 | Adhesive and Sealant Applications | 1/7/05
1171 | Solvent Cleaning Operations | 5/6/05
2000 | General | 5/6/05
2001 | Applicability | 5/6/05
2002 | Allocations for Oxides of Nitrogen (NOX) and Oxides of Sulfur (Sox) | 1/7/05
2005 | New Source Review for RECLAIM (except (i)) | 5/6/05
2007 | Trading Requirements | 5/6/05
2009 | Compliance Plan for Power Producing Facilities | 1/7/05
2010 | Administrative Remedies and Sanctions | 1/7/05
2011 | Requirements for Monitoring, Reporting, and Recordkeeping for Oxides of Sulfur (Sox) Emissions | 5/6/05
2012 | Requirements for Monitoring, Reporting, and Recordkeeping for Oxides of Nitrogen Emissions | 5/6/05
2015 | Backstop Measures (except (b)(l)(G) and (b)(3)(B) | 6/4/04
1470 | Requirements for Stationary Diesel-Fueled Internal Combustion and Other Compression Ignition | 3/4/05

III. Administrative Requirements

A. Executive Order 12866, Regulatory Planning and Review

The Office of Management and Budget (OMB) has exempted this regulatory action from Executive Order 12866, entitled “Regulatory Planning and Review.”

B. Paperwork Reduction Act

This rule does not impose an information collection burden under the provisions of the Paperwork Reduction Act of 1995 (44 U.S.C. 3501 et seq.)

C. Regulatory Flexibility Act

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

This rule will not have a significant impact on a substantial number of small entities because SIP approvals under section 110 and subchapter I, part D of the Clean Air Act do not create any new requirements but simply approve requirements that the State is already imposing. Therefore, because the Federal SIP approval does not create any new requirements, I certify that this action will not have a significant economic impact on a substantial number of small entities.

Moreover, due to the nature of the Federal-State relationship under the Clean Air Act, preparation of flexibility analysis would constitute Federal inquiry into the economic reasonableness of state action. The Clean Air Act forbids EPA to base its actions concerning SIPs on such grounds. Union Electric Co., v. U.S. EPA, 427 U.S. 246, 255-66 (1976); 42 U.S.C. 7410(a)(2).

D. Unfunded Mandates Reform Act

Under sections 202 of the Unfunded Mandates Reform Act of 1995 (“Unfunded Mandates Act”), signed into law on March 22, 1995, EPA must prepare a budgetary impact statement to accompany any proposed or final rule that includes a Federal mandate that may result in estimated costs to State, local, or tribal governments in the aggregate; or to the private sector, of $100 million or more. Under section 205, EPA must select the most cost-effective and least burdensome alternative that achieves the objectives of the rule and is consistent with statutory requirements. Section 203 requires EPA to establish a plan for informing and advising any small governments that may be significantly or uniquely impacted by the rule.

EPA has determined that the approval action promulgated does not include a Federal mandate that may result in estimated costs of $100 million or more to either State, local, or tribal governments in the aggregate, or to the private sector. This Federal action approves pre-existing requirements under State or local law, and imposes no new requirements. Accordingly, no additional costs to State, local, or tribal governments, or to the private sector, result from this action.

E. Executive Order 13132, Federalism

Federalism (64 FR 43255, August 10, 1999) revokes and replaces Executive Orders 12612 (Federalism) and 12875 (Enhancing the Intergovernmental Partnership). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This rule will not have substantial direct effects on the States, on the relationship between the national government and the States, or on the distribution of power and responsibilities among the various levels of government, as specified in Executive Order 13132, because it merely approves a state rule implementing a federal standard, and does not alter the relationship or the distribution of power and responsibilities established in the Clean Air Act. Thus, the requirements of section 6 of the Executive Order do not apply to this rule.

F. Executive Order 13175, Coordination With Indian Tribal Governments

Executive Order 13175, entitled “Consultation and Coordination with Indian Tribal Governments” (65 FR 67249, November 9, 2000), requires EPA to develop an accountable process to ensure “meaningful and timely input by tribal officials in the development of regulatory policies that have tribal implications.” This final rule does not have tribal implications, as specified in Executive Order 13175. It will not have substantial direct effects on tribal governments, on the relationship between the Federal government and Indian tribes, or on the distribution of power and responsibilities between the Federal government and Indian tribes. Thus, Executive Order 13175 does not apply to this rule.

G. Executive Order 13045, Protection of Children From Environmental Health Risks and Safety Risks

Protection of Children from Environmental Health Risks and Safety Risks (62 FR 19885, April 23, 1997), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to Executive Order 13045 because it does not involve decisions intended to mitigate environmental health or safety risks.

H. Executive Order 13211, Actions That Significantly Affect Energy Supply, Distribution, or Use

This rule is not subject to Executive Order 13211, “Actions Concerning Regulations That Significantly Affect Energy Supply, Distribution, or Use” (66 FR 28355, May 22, 2001) because it is not a significant regulatory action under Executive Order 12866.

I. National Technology Transfer and Advancement Act

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

The EPA believes that VCS are inapplicable to this action. Today's action does not require the public to perform activities conducive to the use of VCS.

List of Subjects in 40 CFR Part 55

Environmental protection, Administrative practice and procedures, Air pollution control, Hydrocarbons, Intergovernmental relations, Nitrogen dioxide, Nitrogen oxides, Outer Continental Shelf, Ozone, Particulate matter, Permits, Reporting and Recordkeeping requirements, Sulfur oxides.

Dated: November 1, 2005.
Laura Yoshii,
Acting Regional Administrator, Region IX.

Title 40 Chapter I of the Code of Federal Regulations, is proposed to be amended as follows:

PART 55—[AMENDED]

1. The authority citation for part 55 continues to read as follows:

Authority: Section 328 of the Clean Air Act (42 U.S.C. 7401 et seq.) as amended by Public Law 101-549.

2. Section 55.14 is amended by revising paragraphs (e)(3)(i)(A) and (e)(3)(ii)(G) to read as follows:

§ 55.14 Requirements that apply to OCS sources located within 25 miles of States' seaward boundaries, by State.

* * * * *

(e) * * *

(3) * * *

(i) * * *

(A) State of California Requirements Applicable to OCS Sources.

(ii) * * *

(G) South Coast Air Quality Management District Requirements Applicable to OCS Sources.

* * * * *

Appendix to Part 55—[Amended]

3. Appendix A to Part 55 is amended by revising paragraphs (a)(1) and (b)(7) under the heading “California” to read as follows:

Appendix A to Part 55—Listing of State and Local Requirements Incorporated by Reference Into Part 55, by State

* * * * *

California

(a) State requirements.

(1) The following requirements are contained in State of California Requirements applicable to OCS Sources:

Barclays California Code of Regulations

The following sections of Title 17 Subchapter 6:

17 § 92000—Definitions (Adopted 5/31/91)

17 § 92100—Scope and Policy (Adopted 5/31/91)

17 § 92200—Visible Emission Standards (Adopted 5/31/91)

17 § 92210—Nuisance Prohibition (Adopted 5/31/91)

17 § 92220—Compliance with Performance Standards (Adopted 5/31/91)

17 § 92400—Visible Evaluation Techniques (Adopted 5/31/91)

17 § 92500—General Provisions (Adopted 5/31/91)

17 § 92510—Pavement Marking (Adopted 5/31/91)

17 § 92520—Stucco and Concrete (Adopted 5/31/91)

17 § 92530—Certified Abrasive (Adopted 5/31/91)

17 § 92540—Stucco and Concrete (Adopted 5/31/91)

17 § 93115—Airborne Toxic Control Measure for Stationary Compression Ignition Engines (Adopted 2/26/04)

Health and Safety Code

The following section of Division 26, Part 4, Chapter 4, Article 1:

Health and Safety Code § 42301.13 of seq. Stationary sources: demolition or removal (chaptered 7/25/96)

(b) Local requirements.

* * * * *

(7) The following requirements are contained in South Coast Air Quality Management District Requirements Applicable to OCS Sources (Part I, II and III), February 2005:

Rule 102—Definition of Terms (Amended 12/3/04)

Rule 103—Definition of Geographical Areas (Adopted 1/9/76)

Rule 104—Reporting of Source Test Data and Analyses (Adopted 1/9/76)

Rule 108—Alternative Emission Control Plans (Adopted 4/6/90)

Rule 109—Recordkeeping for Volatile Organic Compound Emissions (Adopted 8/18/00)

Rule 112—Definition of Minor Violation and Guidelines for Issuance of Notice to Comply (Adopted 11/13/98)

Rule 118—Emergencies (Adopted 12/7/95)

Rule 201—Permit to Construct (Amended 12/3/04)

Rule 201.1—Permit Conditions in Federally Issued Permits to Construct (Amended 12/3/04)

Rule 202—Temporary Permit to Operate (Amended 12/3/04)

Rule 203—Permit to Operate (Amended 12/3/04)

Rule 204—Permit Conditions (Adopted 3/6/92)

Rule 205—Expiration of Permits to Construct (Adopted 1/5/90)

Rule 206—Posting of Permit to Operate (Adopted 1/5/90)

Rule 207—Altering or Falsifying of Permit (Adopted 1/9/76)

Rule 208—Permit and Burn Authorization for Open Burning (amended 12/21/01)

Rule 209—Transfer and Voiding of Permits (Adopted 1/5/90)

Rule 210—Applications (Adopted 1/5/90)

Rule 212—Standards for Approving Permits (Adopted 12/7/95) except (c)(3) and (e)

Rule 214—Denial of Permits (Adopted 1/5/90)

Rule 217—Provisions for Sampling and Testing Facilities (Adopted 1/5/90)

Rule 218—Continuous Emission Monitoring (Adopted 5/14/99)

Rule 218.1—Continuous Emission Monitoring Performance Specifications (Adopted 5/14/99)

Rule 218.1—Attachment A—Supplemental and Alternative CEMS Performance Requirements (Adopted 5/14/99)

Rule 219—Equipment Not Requiring a Written Permit Pursuant to Regulation II (Amended 12/3/04)

Rule 220—Exemption—Net Increase in Emissions (Adopted 8/7/81)

Rule 221—Plans (Adopted 1/4/85)

Rule 301—Permitting and Associated Fees (Amended 6/3/05) except (e)(7)and Table IV

Rule 304—Equipment, Materials, and Ambient Air Analyses (Amended 6/3/05)

Rule 304.1—Analyses Fees (Amended 6/3/05)

Rule 305—Fees for Acid Deposition (Adopted 10/4/91)

Rule 306—Plan Fees (Amended 6/3/05)

Rule 309—Fees for Regulation XVI Plans (Amended 6/3/05)

Rule 401—Visible Emissions (Adopted 11/9/01)

Rule 403—Fugitive Dust (Amended 6/3/05)

Rule 404—Particulate Matter—Concentration (Adopted 2/7/86)

Rule 405—Solid Particulate Matter—Weight (Adopted 2/7/86)

Rule 407—Liquid and Gaseous Air Contaminants (Adopted 4/2/82)

Rule 408—Circumvention (Adopted 5/7/76)

Rule 409—Combustion Contaminants (Adopted 8/7/81)

Rule 429—Start-Up and Shutdown Provisions for Oxides of Nitrogen (Adopted 12/21/90)

Rule 430—Breakdown Provisions, (a) and (e) only (Adopted 7/12/96)

Rule 431.1—Sulfur Content of Gaseous Fuels (Adopted 6/12/98)

Rule 431.2—Sulfur Content of Liquid Fuels (Adopted 9/15/00)

Rule 431.3—Sulfur Content of Fossil Fuels (Adopted 5/7/76)

Rule 441—Research Operations (Adopted 5/7/76)

Rule 442—Usage of Solvents (Adopted 12/15/00)

Rule 444—Open Burning (Adopted 12/21/01)

Rule 463—Organic Liquid Storage (Adopted 5/6/05)

Rule 465—Vacuum Producing Devices or Systems (Adopted 8/13/99)

Rule 468—Sulfur Recovery Units (Amended 10/8/76)

Rule 473—Disposal of Solid and Liquid Wastes (Adopted 5/7/76)

Rule 474—Fuel Burning Equipment—Oxides of Nitrogen (Adopted 12/4/81)

Rule 475—Electric Power Generating Equipment (Adopted 8/7/78)

Rule 476—Steam Generating Equipment (Adopted 10/8/76)

Rule 480—Natural Gas Fired Control Devices (Adopted 10/7/77)Addendum to Regulation IV (Effective 1977)

Rule 518—Variance Procedures for Title V Facilities (Adopted 8/11/95)

Rule 518.1—Permit Appeal Procedures for Title V Facilities (Adopted 8/11/95)

Rule 518.2—Federal Alternative Operating Conditions (Adopted 12/21/01)

Rule 701—Air Pollution Emergency Contingency Actions (Adopted 6/13/97)

Rule 702—Definitions (Adopted 7/11/80)

Rule 708—Plans (Rescinded 9/8/95)

Regulation IX—New Source Performance Standards (Adopted 5/11/01)

Regulation X—National Emission Standards for Hazardous Air Pollutants (NESHAPS) (Adopted 5/11/01)

Rule 1105.1—Reduction of PM 10 and Ammonia Emissions From Fluid Catalytic Crackling Units (Adopted 11/7/03)

Rule 1106—Marine Coatings Operations (Adopted 1/13/95)

Rule 1107—Coating of Metal Parts and Products (Adopted 11/9/01)

Rule 1109—Emissions of Oxides of Nitrogen for Boilers and Process Heaters in Petroleum Refineries (Adopted 8/5/88)

Rule 1110—Emissions from Stationary Internal Combustion Engines (Demonstration) (Adopted 11/14/97)

Rule 1110.1—Emissions from Stationary Internal Combustion Engines (Amended 6/3/05)

Rule 1110.2—Emissions from Gaseous- and Liquid Fueled Internal Combustion Engines (Amended 6/3/05)

Rule 1113—Architectural Coatings (Amended 7/9/04)

Rule 1116.1—Lightering Vessel Operations—Sulfur Content of Bunker Fuel (Adopted 10/20/78)

Rule 1121—Control of Nitrogen Oxides from Residential—Type Natural Gas—Fired Water Heaters (Amended 9/3/04)

Rule 1122—Solvent Degreasers (Amended 10/1/04)

Rule 1123—Refinery Process Turnarounds (Adopted 12/7/90)

Rule 1125—Metal Containers, Closure, and Coil Coating Operations (1/13/95)

Rule 1129—Aerosol Coatings (Adopted 3/8/96)

Rule 1132—Further Control of VOC Emissions from High-Emitting Spray Booth Facilities (Amended 5/7/04)

Rule 1134—Emissions of Oxides of Nitrogen from Stationary Gas Turbines (Adopted 8/8/97)

Rule 1136—Wood Products Coatings (Adopted 6/14/96)

Rule 1137—PM10 Emission Reductions from Woodworking Operations (Adopted 2/01/02)

Rule 1140—Abrasive Blasting (Adopted 8/2/85)

Rule 1142—Marine Tank Vessel Operations (Adopted 7/19/91)

Rule 1146—Emissions of Oxides of Nitrogen from Industrial, Institutional, and Commercial Boilers, Steam Generators, and Process Heaters (Adopted 11/17/00)

Rule 1146.1—Emission of Oxides of Nitrogen from Small Industrial, Institutional, and Commercial Boilers, steam Generators, and Process Heaters(Adopted 5/13/94)

Rule 1146.2—Emissions of Oxides of Nitrogen from Large Water Heaters and Small Boilers (Amended 1/17/05)

Rule 1148—Thermally Enhanced Oil Recovery Wells (Adopted 11/5/82)

Rule 1149—Storage Tank Degassing (Adopted 7/14/95)

Rule 1162—Polyester Resin Operations (Amended 7/9/04)

Rule 1168—Adhesive and Sealant Applications (Amended 1/7/05)

Rule 1171—Solvent Cleaning Operations (Amended 5/6/05)

Rule 1173—Fugitive Emissions of Volatile Organic Compounds (Adopted 12/06/02)

Rule 1176—VOC Emissions from Wastewater Systems (Adopted 9/13/96)

Rule 1178—Further Reductions of VOC Emissions from Storage Tanks at Petroleum Facilities (Adopted 12/21/01)

Rule 1301—General (Adopted 12/7/95)

Rule 1302—Definitions (Adopted 12/06/02)

Rule 1303—Requirements (Adopted 12/06/02)

Rule 1304—Exemptions (Adopted 6/14/96)

Rule 1306—Emission Calculations (Adopted 12/06/02)

Rule 1313—Permits to Operate (Adopted 12/7/95)

Rule 1403—Asbestos Emissions from Demolition/Renovation Activities (Adopted 4/8/94)

Rule 1470—Requirements for Stationary Diesel-Fueled Internal Combustion and Other Compression Ignition Engines (Adopted 3/4/05)

Rule 1605—Credits for the Voluntary Repair of On-Road Vehicles Identified Through Remote Sensing Devices (Adopted 10/11/96)

Rule 1610—Old-Vehicle Scrapping (Adopted 2/12/99)

Rule 1612—Credits for Clean On-Road Vehicles (Adopted 7/10/98)

Rule 1612.1—Mobile Source Credit Generation Pilot Program (Adopted 3/16/01)

Rule 1620—Credits for Clean Off-Road Mobile Equipment (Adopted 7/10/98)

Rule 1701—General (Adopted 8/13/99)

Rule 1702—Definitions (Adopted 8/13/99)

Rule 1703—PSD Analysis (Adopted 10/7/88)

Rule 1704—Exemptions (Adopted 8/13/99)

Rule 1706—Emission Calculations (Adopted 8/13/99)

Rule 1713—Source Obligation (Adopted 10/7/88)

Regulation XVII—Appendix (effective 1977)

Rule 1901—General Conformity (Adopted 9/9/94)

Rule 2000—General (Amended 5/6/05)

Rule 2001—Applicability (Amended 5/6/05)

Rule 2002—Allocations for Oxides of Nitrogen (NOX) and Oxides of Sulfur (SOX) Emissions (Amended 1/7/05)

Rule 2004—Requirements (Adopted 5/11/01) except (l)

Rule 2005—New Source Review for RECLAIM (Amended 4/20/01) except (i)

Rule 2006—Permits (Adopted 5/11/01)

Rule 2007—Trading Requirements (Amended 5/6/05)

Rule 2008—Mobile Source Credits (Adopted 10/15/93)

Rule 2009—Compliance Plan for Power Producing Facilities (Adopted 1/7/05)

Rule 2010—Administrative Remedies and Sanctions (Amended 1/7/05)

Rule 2011—Requirements for Monitoring, Reporting, and Recordkeeping for Oxides of Sulfur (SOX) Emissions (Amended 5/6/05)

Appendix A Volume IV—(Protocol for oxides of sulfur) (Adopted 5/6/05)

Rule 2012—Requirements for Monitoring, Reporting, and Recordkeeping for Oxides of Nitrogen (NOX) Emissions (Amended 5/6/05)

Appendix A Volume V—(Protocol for oxides of nitrogen) (Adopted 5/6/05)

Rule 2015—Backstop Provisions (Amended 6/4/04) except (b)(1)(G) and (b)(3)(B)

Rule 2020—RECLAIM Reserve (Adopted 5/11/01)

Rule 2100—Registration of Portable Equipment (Adopted 7/11/97)

Rule 2506—Area Source Credits for NOX and SOX (Adopted 12/10/99)

XXX—Title V Permits

Rule 3000—General (Adopted 11/14/97)

Rule 3001—Applicability (Adopted 11/14/97)

Rule 3002—Requirements (Adopted 11/14/97)

Rule 3003—Applications (Adopted 3/16/01)

Rule 3004—Permit Types and Content (Adopted 12/12/97)

Rule 3005—Permit Revisions (Adopted 3/16/01)

Rule 3006—Public Participation (Adopted 11/14/97)

Rule 3007—Effect of Permit (Adopted 10/8/93)

Rule 3008—Potential To Emit Limitations (3/16/01)

XXXI—Acid Rain Permit Program (Adopted 2/10/95)

* * * * *

[FR Doc. 05-23275 Filed 11-30-05; 8:45 am]

BILLING CODE 6560-50-P